Proclamation 9953 of October 18, 2019

National Forest Products Week, 2019

By the President of the United States of America

A Proclamation

Our Nation's forests and woodlands provide millions of Americans with an abundance of job opportunities, goods, and recreational activities. During National Forest Products Week, we pay tribute to the forest products industry for the important contributions it makes to our society and economy, and we recommit to keeping our wooded landscapes vibrant and strong.

Ninety-six percent of the industrial wood used in the United States comes directly from domestic supplies, making the forest products sector a truly American industry. The millions of acres of forests across our country supply the resources for paper and packaging materials, lumber for our homes, renewable energy materials, and countless other products. In addition to the tremendous impact the forest products industry has on our economy, businesses in this sector are at the forefront of conservation efforts, practicing responsible resource management and maintaining a strong commitment to preserving our abundant forests.

My Administration is working to protect our Nation's forests so that the forest products industry can continue to manufacture goods for domestic and global markets. Last year, I signed an Executive Order aimed at increasing responsible forest management and coordinating Federal, State, tribal, and local assets to prevent and combat the wildfires that have sadly devastated parts of our Nation's woodlands. I also signed the Agriculture Improvement Act of 2018, which will help preserve the health of our forests and increase economic opportunities for the entire forest products sector. This bipartisan legislation promotes active management of natural resources, including our forests, and maintains strong rural development and research initiatives that benefit communities where the forest products industry drives local economies. It also promotes using America's forest materials, like cross-laminated timber—a strong, resilient product—as an innovative approach to constructing tall wooden buildings.

This week, we recognize the importance of the raw materials our forested lands supply for the production of goods throughout our country and around the world. We also pledge to support the proper management of our forests and woodlands so that they can continue to help power our economy and provide recreational opportunities for Americans for generations to come.

Recognizing the economic value of the products yielded in our Nation's forests, the Congress, by Public Law 86-753 (36 U.S.C. 123), as amended, has designated the week beginning on the third Sunday in October of each year as “National Forest Products Week” and has authorized and requested the President to issue a proclamation in observance of this week.

NOW, THEREFORE, I, DONALD J. TRUMP, President of the United States of America, by virtue of the authority vested in me by the Constitution and the laws of the United States, do hereby proclaim October 20 through October 26, 2019, as National Forest Products Week. I call upon all Americans to observe this week with appropriate ceremonies and activities and to reaffirm our commitment to our Nation's forests.

IN WITNESS WHEREOF, I have hereunto set my hand this eighteenth day of October, in the year of our Lord two thousand nineteen, and of the Independence of the United States of America the two hundred and forty-fourth.

[FR Doc. 2019-23435

Filed 10-23-19; 11:15 am]

Billing code 3295-F0-P